DEPARTMENT OF HEALTH AND HUMAN SERVICES

Centers for Disease Control and Prevention

[60Day-08-08AX]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, Acting CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Nationally Notifiable Sexually Transmitted Disease (STD) Morbidity Surveillance—New—Division of STD Prevention (DSTDP), National Center for HIV, Viral Hepatitis, STD and TB Prevention (NCHHSTP), Centers for Disease Control and Prevention (CDC).

Background and Brief Description

Because the STD epidemiology in the United States is changing rapidly, CDC must monitor disease indicators that are not currently included in the STD surveillance currently being implemented. CDC is proposing a new electronic information collection which will include information elements that will be integrated into the existing nationally notifiable STDs. These new information elements are beyond the scope of the OMB-approved collection called Weekly and Annual Morbidity and Mortality Reports (MMWR, OMB #0920-0007). The new collection will be epidemiologically superior to the existing system and will provide evidence to better define STD distribution and epidemiology in the United States. The proposed surveillance system will modify several data elements currently included in the MMWR collection and add others to produce a new set of sensitive indicators. This new surveillance will provide the evidence to enhance our understanding of STDs, develop intervention strategies, and evaluate the impact of ongoing control efforts.

CDC works closely with state and local STD control programs to monitor and respond to STD outbreaks and trends in STD-associated risk behavior. Users of data include, but are not limited to, congressional offices, state and local health agencies, health care providers, and other health-related groups.

CDC disseminates all STD surveillance information through the MMWR series of publications, including the MMWR, the CDC Surveillance Summaries, the Recommendations and Reports, and the annual Summary of Notifiable Diseases, United States. Additionally, DSTDP publishes an annual STD-specific surveillance summary and supplements in hard copy on CD-ROM and on the Internet http://www.cdc.gov/nchstp/dstd/Stats_Trends/Stats_and_Trends.htm.

CDC will use the findings from this and other STD surveillance to develop guidelines, control strategies, and impact measures that monitor trends in STDs in the United States.

We expect a total of 57 sites in state, city, and territory health departments will be submitting STD morbidity information to CDC each week.

Estimate of Annualized Burden Table
Types of data collection | Number of respondents | Number of responses per respondent | Average burden per response (in hours) | Total burden in hours
States | 50 | 52 | 20/60 | 867
Territories | 5 | 52 | 20/60 | 87
Cities | 2 | 52 | 20/60 | 35
Totals | 57 |  |  | 989

Dated: April 3, 2008.
Maryam I. Daneshvar,
Acting Reports Clearance Officer, Centers for Disease Control and Prevention.

[FR Doc. E8-7575 Filed 4-9-08; 8:45 am]

BILLING CODE 4163-18-P